DEPARTMENT OF JUSTICE

Antitrust Division

Notice Pursuant to the National Cooperative Research and Production Act of 1993—Undersea Technology Innovation Consortium

Notice is hereby given that, on October 8, 2025, pursuant to section 6(a) of the National Cooperative Research and Production Act of 1993, 15 U.S.C. 4301 et seq. (“the Act”), Undersea Technology Innovation Consortium (“UTIC”) has filed written notifications simultaneously with the Attorney General and the Federal Trade Commission disclosing changes in its membership. The notifications were filed for the purpose of extending the Act's provisions limiting the recovery of antitrust plaintiffs to actual damages under specified circumstances.

Specifically, Chance Technologies LLC, Lafayette, LA; Saronic Technologies, Inc., Austin, TX; Thomson Reuters Special Services LLC, McLean, VA; Defense Unicorns, Inc., Colorado Springs, CO; Washtenaw Precision Engineering LLC, Samaria, MI; Lean Scaled Architects LLC, Saint Petersburg, FL; Orpheus Ocean, Inc., New Bedford, MA; Red Cedar USA LLC, Arlington, VA; Caci, Inc.—Federal, Chantilly, VA; General Dynamics Information Technology, Inc., Falls Church, VA; Sofar Ocean Technologies, Inc., San Francisco, CA; Marestella, Inc., Albuquerque, NM; Hayward Tyler, Inc., Colchester, VT; Hii Mission Technologies Corp, McLean, VA; and N8tive Solutions LLC, Winchester, VA, have been added as parties to this venture.

Also, Kenautics, Inc., Las Vegas, NV; Greensea Systems, Inc., Richmond, VT; and Universal Solutions International, Inc., Newport News, VA, have withdrawn as parties to this venture.

No other changes have been made in either the membership or planned activity of the group research project. Membership in this group research project remains open, and UTIC intends to file additional written notifications disclosing all changes in membership.

On October 9, 2018, UTIC filed its original notification pursuant to section 6(a) of the Act. The Department of Justice published a notice in the Federal Register pursuant to section 6(b) of the Act on November 2, 2018 (83 FR 55203).

The last notification was filed with the Department on July 8, 2025. A notice was published in the Federal Register pursuant to section 6(b) of the Act on August 15, 2025 (90 FR 39425).

Suzanne Morris,
Deputy Director Civil Enforcement Operations, Antitrust Division.

[FR Doc. 2026-03544 Filed 2-20-26; 8:45 am]

BILLING CODE P